DEPARTMENT OF LABOR

Employee Benefits Security Administration

Employee Benefit Plans: Notice to the Public Pursuant to Section 106 of the President's Reorganization Plan No. 4 of 1978

Pursuant to section 106 of the President's Reorganization Plan No. 4 of 1978, 43 FR 47713, October 17, 1978, 92 Stat. 3790, 5 U.S.C. app; 29 U.S.C. 1001 note, the Department of the Treasury is required to notify the Department of Labor of certain actions which it proposes to take under certain provisions of the Employee Retirement Income Security Act of 1974, Pub. L. 93-406, 29 U.S.C. 1001 et seq. as amended (the Act).

On May 6, 2004, the Department of the Treasury notified the Department of Labor that the Department of the Treasury intends to publish a revenue procedure relating to the extension of the amortization period required to amortize any unfunded liabilities described in section 412(b)(2)(B) of the Internal Revenue Code (the Code) in accordance with section 412(e) of the Code. The revenue procedure would apply to, among other plans, collectively bargained plans.

Signed at Washington, DC, this 14th day of May, 2004.
Ann L. Combs,
Assistant Secretary, Employee Benefits Security Administration.

[FR Doc. 04-11618 Filed 5-21-04; 8:45 am]

BILLING CODE 4510-29-P